DEPARTMENT OF DEFENSE

Office of the Secretary

Submission of OMB Review; Comment Request

ACTION: Notice.

The Department of Defense has submitted to OMB for clearance, the following proposal for collection of information under the provisions of the Paperwork Reduction Act (44 U.S.C. Chapter 35).

DATES: Consideration will be given to all comments received by August 18, 2005.

Title and OMB Number: DoD Patient Safety Survey; OMB Number 0720-TBD.

Type of Request: New.

Number of Respondents: 14,022.

Responses per Respondent: 1.

Annual Responses: 14,022.

Average Burden per Response: 10 minutes.

Annual Burden Hours: 2,384.

Needs and Uses: The 2001 National Defense Authorization Act contains specific sections addressing patient safety in military and veterans health care systems. This legislation states that the Secretary of Defense shall establish a patient care error reporting and management system to study occurrences of errors in patient care and that one of the purposes of the system should be “To identify systemic factors that are associated with such occurrences” and “To provide for action to be taken to correct the identified systemic factors” (Sec. 754, items b2 and b3). In addition, the legislation states that the Secretary shall “Continue research and development investments to improve communication, coordination, and team work in the provision of health care” (Sec. 754, item d4).

In its ongoing response to this legislation, DoD plans to implement a Web-based patient safety culture survey to a census of all staff working in Army, Navy, and Air Force Military Health System (MHS) facilities in the U.S. and internationally, including Military Treatment Facility (MTF) hospitals as well as ambulatory and dental services. The survey obtains MHS staff opinions on patient safety issues such as teamwork, communications, medical error occurrence and response, error reporting, and overall perceptions of patient safety. The purpose of the survey is to assess the current status of patient safety in MHS facilities as well as to provide baseline input for assessment of patient safety improvement over time. Survey results will be prepared at the facility and Service levels and MHS overall.

Affected Public: Federal government; individuals or households.

Frequency: On occasion.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

DOD Clearance Officer: Ms. Patricia Toppings.

Written requests for copies of the information collection proposal should be sent to Ms. Toppings, WHS/ESD/Information Management Division, 1225 South Clark Street, Suite 504, Arlington, VA 22202-4326.

Dated: July 8, 2005.
Patricia L. Toppings,
Alternate OSD Federal Register Liaison Officer, Department of Defense.

[FR Doc. 05-14102 Filed 7-18-05; 8:45 am]

BILLING CODE 5001-06-M